DEPARTMENT OF TRANSPORTATION

Office of the Secretary

[Docket No. DOT-OST-2015-0197]

Privacy Act of 1974; Department of Transportation, Office of the Secretary of Transportation; DOT/ALL-18, International Freight Data System (IFDS)

AGENCY: Office of the Departmental Chief Information Officer, Office of the Secretary of Transportation, DOT.

ACTION: Notice of retirement of one Privacy Act system of records.

SUMMARY: In accordance with the Privacy Act of 1974, the Department of Transportation (DOT) is giving notice that it will retire the following Privacy Act system of records: DOT/ALL 18, International Freight Data System (IFDS) (April 14, 2008, 73 FR 20084). The IFDS was never implemented by the DOT and the DOT will continue to rely upon the U.S. Customs and Border Protection's Automated Commercial Environment/International Trade Data System for its data needs.

DATES: This change will take effect upon publication.

FOR FURTHER INFORMATION CONTACT: For questions, please contact: Claire W. Barrett, Departmental Chief Privacy Officer, Privacy Office, Department of Transportation, Washington, DC 20590; privacy@dot.gov; or 202.527.3284.

SUPPLEMENTARY INFORMATION:

I. Background

Pursuant to the provisions of the Privacy Act of 1974, 5 U.S.C. 552a, and as part of its ongoing integration and management efforts, DOT is retiring the system of records notice, DOT/ALL 18 International Freight Data System (IFDS) (April 14, 2008, 73 FR 20084), which was intended to be an automated system that provided participating DOT Operating Administrations with international commercial information to perform their enforcement, statistical, analytical, modeling and policy responsibilities. The IFDS was never implemented by the DOT and the DOT will continue to rely upon DHS/CBP-001, Automated Commercial Environment/International Trade Data System (January 19, 2006, 71 FR 3109) for the collection and dissemination of international commercial information.

Eliminating the system of records notice DOT/ALL 18, International Freight Data System, will have no adverse impacts on individuals and will accurately characterize DOT Privacy Act record systems.

Claire W. Barrett,
Departmental Chief Privacy Officer.

[FR Doc. 2015-26366 Filed 10-22-15; 8:45 am]

BILLING CODE 4910-9X-P